FEDERAL COMMUNICATIONS COMMISSION

47 CFR Part 73

[MB Docket No. 25-6; RM-11993; DA 25-21; FR ID 273220]

Television Broadcasting Services Price, Utah

AGENCY: Federal Communications Commission.

ACTION: Proposed rule.

SUMMARY: The Video Division, Media Bureau (Bureau), has before it a petition for rulemaking filed July 15, 2024, as amended on January 6, 2025, by Gray Television Licensee LLC (Petitioner), the permittee of unbuilt full power television station KCBU, channel 11, Price, Utah (Station or KCBU). The Petitioner requests the substitution of channel 15 for channel 11 at Price, Utah (Price), in the Table of TV Allotments.

DATES: Comments must be filed on or before April 2, 2025 and reply comments on or before April 17, 2025.

ADDRESSES: Federal Communications Commission, Office of the Secretary, 45 L Street NE, Washington, DC 20554. In addition to filing comments with the FCC, interested parties should serve counsel for the Petitioner as follows: Joan Stewart, Esq., Wiley Rein LLP, 2025 M Street NW, Washington, DC 20036.

FOR FURTHER INFORMATION CONTACT: Joyce Bernstein, Media Bureau, at Joyce.Bernstein@fcc.gov, (202) 418-1647, or Mark Colombo, Media Bureau, at Mark.Colombo@fcc.gov, (202) 418-7611.

SUPPLEMENTARY INFORMATION: In support of its Petition, Gray asserts that the proposed channel substitution serves the public interest by allowing Gray to build out KCBU on a UHF channel to avoid widely publicized issues with indoor digital VHF reception. Gray states that the Commission has recognized that VHF channels have certain characteristics that pose challenges for their use in providing digital television service, including propagation characteristics that allow undesired signals and noise to be receivable at relatively far distances and a large variability in performance of indoor antennas available to consumers, with most antenna receiving UHF channels fairly well, but more poorly on VHF channels. Gray also provides an engineering statement which confirms that the proposed channel substitution contour would provide full principal community coverage to Price and would not cause impermissible interference to any station. It also states that if its proposed channel substitution is granted, it ultimately plans to convert the Station into a Distributed Transmission System that will allow it to serve viewers on the other side of the mountainous terrain between Price and Provo, Utah.

We believe that the Petitioner's channel substitution proposal for KCBU warrants consideration. Channel 15 can be substituted for channel 11 at Price as proposed, in compliance with the principal community coverage requirements of § 73.618(a) of the Commission's rules (rules), at coordinates 39-45′-25.2″ N+ and 110-59′-22.9″ W−. In addition, we find that this channel change meets the technical requirements set forth in § 73.622(a) of the rules.

This is a synopsis of the Commission's Notice of Proposed Rulemaking, MB Docket No. 25-6; RM-11993; DA 25-21, adopted January 8, 2025, and released January 8, 2025. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a notice of proposed rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

Providing Accountability Through Transparency Act: The Providing Accountability Through Transparency Act, Public Law 118-9, requires each agency, in providing notice of a rulemaking, to post online a brief plain-language summary of the proposed rule. The required summary of this notice of proposed rulemaking is available at https://www.fcc.gov/proposed-rulemakings.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.622, in the table in paragraph (j), under Utah, revise the entry for “Price” to read as follows:

§ 73.622 Digital television table of allotments.

* * * * *

(j) * * *

Community | Channel No.
* * * * *
Utah
* * * * *
Price | 15
* * * * *

* * * * *

[FR Doc. 2025-03379 Filed 2-28-25; 8:45 am]

BILLING CODE 6712-01-P